ENVIRONMENTAL PROTECTION AGENCY

[FRL-9846-6]

Proposed Cercla Administrative Cost Recovery Settlement; MassDOT, MassDOT Route 1 Right-of-Way Site, Chelsea, MA

AGENCY: Environmental Protection Agency (EPA).

ACTION: Notice of proposed settlement; request for public comment.

SUMMARY: In accordance with Section 122(h)(1) of the Comprehensive Environmental Response Compensation, and Liability Act, as amended (“CERCLA”), 42 U.S.C. 9622(h)(1), concerning the MassDOT Route 1 Right-of-Way Site in Chelsea, Massachusetts with the following Settling Party: Massachusetts Department of Transportation, Highway Division. The settlement requires the Settling Party to: (1) Pay to EPA the Principal Amount of $175,000.00 within thirty (30) days after the Effective Date of the agreement; (2) If additional response costs are incurred, Settling Party will pay such costs not to exceed 15% of the Principal Amount; and (3) Settling Party to provide EPA and its representatives and contractors access at all reasonable times to the Site, or such other real property, to conduct any activity relating to response actions. The settlement includes a covenant not to sue pursuant to Sections 106 and 107(a), relating to the Removal Action, and protection from contribution actions or claims as provided by Section 113. For thirty (30) days following the date of publication of this notice, the Agency will receive written comments relating to the settlement. The Untied States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by September 11, 2013.

ADDRESSES: Comments should be addressed to Ruthann Sherman, Senior Enforcement Counsel, U.S. Environmental Protection Agency, 5 Post Office Square, Suite 100 (OES04-3), Boston, MA 02109-3912 (Telephone No. 617-918-1886) and should refer to: In re: MassDOT Route 1 Right-of-Way Site, U.S. EPA Docket No.01-2013-0031.

FOR FURTHER INFORMATION CONTACT: A copy of the proposed settlement may be obtained from Ruthann Sherman, Senior Enforcement Counsel, U.S. Environmental Protection Agency, 5 Post Office Square, Suite 100 (OES04-3), Boston, MA 02109-3912 (Telephone No. 617-918-1886); Email (Sherman.ruthann@epa.gov).

Dated: July 31, 2013.
James T. Owens III,
Director, Office of Site Remediation and Restoration.

[FR Doc. 2013-19484 Filed 8-9-13; 8:45 am]

BILLING CODE 6560-50-P